DEPARTMENT OF THE INTERIOR

Bureau of Reclamation

[RR83550000, 178R5065C6, RX.59389832.1009676]

Quarterly Status Report of Water Service, Repayment, and Other Water-Related Contract Actions

AGENCY: Bureau of Reclamation, Interior.

ACTION: Notice.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939, as amended and supplemented. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, as amended and supplemented, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

M&I Municipal and Industrial

O&M Operation and Maintenance

OM&R Operation, maintenance, and replacement

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

New contract action:

17. Talent, Medford, and Rogue River Valley IDs; Rogue River Basin Project; OR: Contracts for repayment of reimbursable shares of SOD program modifications for Howard Prairie Dam.

Completed contract action:

14. Talent, Medford, and Rogue River Valley IDs; Rogue River Basin Project; Oregon: Contracts for repayment of reimbursable shares of SOD program modifications for Hyatt Dam. Contracts executed in March 2017.

Mid-Pacific Region: Bureau of Reclamation, 2800 Cottage Way, Sacramento, California 95825-1898, telephone 916-978-5250.

Completed contract action:

46. Sacramento County Water Agency, CVP, California: Assignment of 7,000 acre-feet of CVP water to the City of Folsom. Contract executed on December 21, 2016.

Lower Colorado Region: Bureau of Reclamation, P.O. Box 61470 (Nevada Highway and Park Street), Boulder City, Nevada 89006-1470, telephone 702-293-8192.

New contract actions:

20. Ak-Chin Indian Community and Del Webb Corporation, CAP, Arizona: Execute a CAP water lease in order for the Ak-Chin Indian Community to lease 1,800 acre-feet of its CAP water to the Del Webb Corporation during calendar year 2017.

21. Gold Dome Mining Corporation and Wellton-Mohawk IDD, Gila Project, Arizona: Terminate contract No. 0-07-30-W0250 pursuant to Articles 11(d) and 11(e).

22. Estates of Anna R. Roy and Edward P. Roy, Gila Project, Arizona: Terminate contract No. 6-07-30-W0124 pursuant to Article 9(c).

Discontinued contract action:

3. Sherrill Ventures, LLLP and Green Acres Mohave, LLC; BCP; Arizona: Draft contracts for PPR No. 14 for 1,080 acre-feet of water per year as follows: Sherrill Ventures, LLLP, a draft contract for 954.3 acre-feet per year and Green Acres Mohave, LLC, a draft contract for 125.7 acre-feet per year.

Completed contract actions:

6. Metropolitan Water District of Southern California, San Diego County Water Authority, and Otay WD; BCP; California: Execute amendment No. 2 to extend the “Agreement for Temporary Emergency Delivery of a Portion of the Mexican Treaty Waters of the Colorado River to the International Boundary in the Vicinity of Tijuana, Baja California, Mexico, and the Operation of Facilities in the United States” until November 9, 2019. Contract executed on January 19, 2017.

7. Central Arizona Water Conservation District, CAP, Arizona: Negotiate a wheeling agreement for the wheeling of nonproject water (CAP System Use Agreement), in accordance with the District's existing contract. Contract executed on February 2, 2017.

12. Imperial ID, Lower Colorado River Water Supply Project, California: Develop an agreement between Reclamation and Imperial ID for the funding of design, construction, and installation of power facilities for the Project. Contract executed on February 11, 2017.

13. San Carlos Apache Tribe and the Pascua Yaqui Tribe, CAP, Arizona: Execute a CAP water lease in order for the San Carlos Apache Tribe to lease 2,230 acre-feet of its CAP water to the Pascua Yaqui Tribe during calendar year 2017. Contract executed on January 10, 2017.

17. Fort McDowell Yavapai Nation and the Town of Gilbert, CAP, Arizona: Execute amendment No. 5 to a CAP water lease to extend the term of the lease in order for the Fort McDowell Yavapai Nation to lease 13,933 acre-feet of its CAP water to the Town of Gilbert during calendar year 2017. Contract executed on February 23, 2017.

Upper Colorado Region: Bureau of Reclamation, 125 South State Street, Room 8100, Salt Lake City, Utah 84138-1102, telephone 801-524-3864.

New contract actions:

41. Weber Basin Water Conservancy District, Weber Basin Project, Utah: The District requires an amendment to its block notices for construction costs not currently under repayment.

42. Weber Basin Water Conservancy District, Weber Basin Project, Utah: The District requires a Contributed Funds Act agreement for reimbursable costs not currently under contract.

43. Collbran Water Conservancy District, Collbran Project, Colorado: Laramie Energy has requested an exchange contract for exchange of water on the Collbran Project.

44. Jicarilla Apache Nation, Navajo Project, New Mexico: Water service agreement between the Jicarilla Apache Nation and BP America Production Company for delivery of 1,500 acre-feet of M&I water from the Jicarilla's settlement water from the Navajo Reservoir Supply for a 5-year term.

Discontinued contract action:

7. Carbon Water Conservancy District, Scofield Project, Utah: The District has requested Reclamation's assistance with O&M activities to rehabilitate certain portions of the Scofield Dam outlet works and surrounding area. Work was completed as part of Reclamation's extraordinary maintenance authorities and no further action is required.

Completed contract actions:

30. Provo River Restoration Project, Utah: The Utah Reclamation Mitigation and Conservation Commission is amending agreement No. 9-LM-40-01410 to include additional acreage in the boundaries of the Provo River Restoration Project. Contract executed on January 23, 2017.

9. Uintah Water Conservancy District; Vernal Unit, CUP; Utah: The District desires to pipe the Steinaker Service Canal to improve public safety, decrease O&M costs, and increase water efficiency. This action will require a supplementary O&M contract to modify Federal Reclamation facilities, as well as an agreement written under the authority of the Civil Sundry Appropriations Act of 1921 for Reclamation to accept funds to review designs, inspect project construction, and any other activities requiring Reclamation's participation. Contract executed on June 27, 2016.

44. Jicarilla Apache Nation, Navajo Project, New Mexico: Water service agreement between the Jicarilla Apache Nation and BP America Production Company for delivery of 1,500 acre-feet of M&I water from the Jicarilla's settlement water from the Navajo Reservoir Supply for a 5-year term. Contract executed on November 3, 2016.

Great Plains Region: Bureau of Reclamation, P.O. Box 36900, Federal Building, 2021 4th Avenue North, Billings, Montana 59101, telephone 406-247-7752.

New contract action:

33. Town of Estes Park, Colorado-Big Thompson Project, Colorado: Consideration of a renewal of contract with the Town of Estes Park.

Discontinued contract action:

30. Hickory Swings Golf Course; Canyon Ferry Unit, P-SMBP; Montana: Consideration to amend contract No. 159E670039 to increase the water supply from 20 to 50 acre-feet.

Completed contract actions:

10. Southeastern Colorado Water Conservancy District, Fryingpan-Arkansas Project, Colorado: Consideration of an excess capacity master storage contract. Contract executed on December 23, 2016.

19. Mirage Flats ID, Mirage Flats Project, Nebraska: Consideration of a contract action for repayment of SOD costs. Contract executed December 13, 2016.

24. Bostwick Division, P-SMBP: Excess capacity contract with the State of Nebraska and/or State of Kansas entities and/or irrigation districts. Contract executed on December 13, 2016.

27. Central Oklahoma Master Conservancy District, Norman Project, Oklahoma: Consideration of a contract for a supply of water made possible when infrequent and otherwise unmanageable flood flows of short duration create a temporary supply of water. Contract executed on February 14, 2017.

Dated: May 2, 2017.
Roseann Gonzales,
Director, Policy and Administration.

[FR Doc. 2017-13958 Filed 6-30-17; 8:45 am]

BILLING CODE 4332-90-P